DEPARTMENT OF HEALTH AND HUMAN SERVICES

Agency for Healthcare Research and Quality

Public Comment on AHRQ's Evidence-based Practice Program

AGENCY: The Agency for Healthcare Research and Quality (AHRQ), DHHS.

ACTION: Request for public comments.

SUMMARY: AHRQ will issue a Request for Proposals (RFP) in December 2001, to continue its Evidence-based Practice Centers Program (EPC Program). Prior to release of the RFP, AHRQ invites comments from interested parties about the EPC Program with respect to: (a) What has worked well; (b) What has not worked well; (c) What changes and improvements could be made.

AHRQ also is interested in suggestions about new opportunities. For example, what steps might AHRQ take to encourage more healthcare organizations and other relevant groups to translate EPC evidence reports into clinical practice guidelines? What steps might AHRQ take to expand the number of performance measures, educational curricula, and other quality enhancement tools derived from EPC evidence reports? How might AHRQ better track implementation of the evidence-based tools and measures derived from EPC evidence reports, that impact on patient outcomes and quality of care? Are there information technology systems that AHRQ might utilize to broaden clinician access to and use of EPC products?

DATES: To be considered for incorporation in the planned RFP, comments must be received by Friday, November 9, 2001. Comments should be sent to Jacqueline Besteman via e-mail (preferred) jbstema@ahrq.gov; or fax number: 301-594-4027.

FOR FURTHER INFORMATION CONTACT: Jacqueline Besteman, J.D., M.A., Director, EPC Program, Center for Practice and Technology Assessment, AHRQ, 6010 Executive Blvd., Suite 300, Rockville, MD 20852; Phone: (301) 594-4017; Fax: (301) 594-4027; E-mail: jbestema@ahrq.gov

SUPPLEMENTARY INFORMATION:

Background

AHRQ is the lead Federal agency for enhancing the quality, appropriateness, and effectiveness of healthcare services and access to such services. In carrying out this mission, AHRQ conducts and funds research that develops and presents evidence-based information on healthcare outcomes, quality, cost, use and access. Included in AHRQ's legislative mandate is support of syntheses and wide-spread dissemination of scientific evidence, including dissemination of methods or systems for rating the strength of scientific evidence. These research findings and syntheses assist providers, clinicians, payers, patients, and policymakers in making evidence-based decisions regarding the quality and effectiveness of health care.

In June 1997, AHRQ established the Evidence-based Practice Center Program (EPC Program) to better respond to significant changes within the health care industry. AHRQ became a science partner with private and public-sector organizations in their efforts to improve the quality, effectiveness and appropriateness of clinical practice. AHRQ awarded 5-year contracts to 12 institutions and designated them as Evidence-based Practice Centers (EPCs). Since 1997, the EPCs have conducted more than 80 systematic reviews and analyses of scientific literature on a wide spectrum of topics, incorporating the results and conclusions into evidence reports and technology assessments (visit AHRQ's website www.ahrq.gov for Summaries of EPC reports).

EPC evidence reports and technology assessments have been used by systems of care, professional societies, health plans, public and private purchasers, States, and other entities, as a scientific foundation for development and implementation of their own clinical practice guidelines, clinical pathways, review criteria, performance measures, and other clinical quality improvement tools, as well as for formulation of evidence-based policies related to specific health care technologies.

The objectives of the upcoming second competition for the EPC Program (EPC II) are: (1) Continuation of the methodologically rigorous systematic reviews and analyses of scientific literature on clinical, organizational, and financing systems topics; (2) updating or prior EPC reports; (3) supporting EPC methodologies assistance to professional organizations and others, to facilitate translation of the evidence reports into quality improvement tools, educational programs, etc.; and (4) expanded EPC methods and implementation research.

The EPC Program in an essential component of AHRQ's resources for evidence-based systematic reviews, analyses, and research. AHRQ intends that evidence reports, technology assessments, and research, flowing from EPC II will be more useful to a broader array of stakeholders—consumers, providers, employers, policymakers—and be more rapidly available. AHRQ invites your comments and suggestions on how to achieve these EPC Program goals.

Dated: October 15, 2001.
John M. Eisenberg,
Director.

[FR Doc. 01-26476 Filed 10-19-01; 8:45 am]

BILLING CODE 4160-90-M